DEPARTMENT OF VETERANS AFFAIRS

Enhanced-Use Lease Development of Property at the Department of Veterans Affairs Somerville Asset Management Service Facility, Hillsborough, NJ

AGENCY: Department of Veterans Affairs.

ACTION: Notice of intent to designate.

SUMMARY: The Secretary of the Department of Veterans Affairs (VA) intends to designate the VA Somerville Asset Management Service facility, Hillsborough, NJ, for an enhanced-use lease development. The Department intends to enter into a long-term lease of real property with a competitively selected lessee/developer who will finance, design, develop, maintain, and manage the project, all at no cost to VA.

FOR FURTHER INFORMATION CONTACT: Ed Bradley, Office of Asset Enterprise Management (004B), Department of Veterans Affairs, 810 Vermont Avenue, NW, Washington, DC 20420, (202) 273-9489.

SUPPLEMENTARY INFORMATION: 38 U.S.C. Sec 8161 et seq., specifically provides that the Secretary may enter into an enhanced-use lease if he determines that at least part of the property under the lease will be used to provide appropriate space for an activity contributing to the mission of the Department; the lease will not be inconsistent with and will not adversely affect the mission of the Department; and the lease will enhance the property or result in improved services to veterans. This project meets these requirements.

Approved: April 5, 2002.
Anthony J. Principi,
Secretary of Veterans Affairs.

[FR Doc. 02-8986 Filed 4-12-02; 8:45 am]

BILLING CODE 8320-01-M